DEPARTMENT OF LABOR

Employment and Training Administration

[TA-W-52,686]

AVI Corporation, Queensbury, New York; Notice of Termination of Investigation

Pursuant to section 221 of the Trade Act of 1974, as amended, an investigation was initiated on August 26, 2003 in response to a petition filed by a company official on behalf of workers at AVI Corporation, Queensbury, New York.

The petitioner has requested that the petition be withdrawn. Consequently, the investigation has been terminated.

Signed at Washington, DC this 25th day of September, 2003.
Linda G. Poole,
Certifying Officer, Division of Trade Adjustment Assistance.

[FR Doc. 03-27842 Filed 11-4-03; 8:45 am]

BILLING CODE 4510-30-P